NATIONAL SCIENCE FOUNDATION

Notice of Meeting

Agency Holding Hearing: National Science Board.

Date and Time: December 7, 2005, 10 a.m.-1:30 p.m. (ET).

Place: Cannon House Office Building, Room 210, First Street and Independence Avenue, SW., Washington, DC.

Status: This Hearing will be open to the public.

K-16 Science, Technology, Engineering, and Mathematics (STEM) Education in the U.S.

10 a.m. Welcome.

Warren M. Washington, Chairman, National Science Board.

10:05 a.m. Opening Remarks.

Steven Beering, National Science Board.

10:15 a.m. Panelist Commentary.

Congressman Frank Wolf,* Chairman, Subcommittee on Science, State, Justice, and Commerce, Committee on Appropriations.

Congressman Sherwood Boehlert,* Chairman, Committee on Science.

Congressman Vernon J. Ehlers,* Chairman, Subcommittee on Environment, Technology, and Standards, Committee on Science.

Congresswoman Eddie Bernice Johnson,* Committee on Science.

11 a.m. Roundtable Discussion and Questions from the Audience

11:20 a.m. Panelist Commentary.

Mary Vermeer Andringa, President and COO, Vermeer Manufacturing Company.

Alfred Berkeley, Chairman and CEO, Pipeline Trading Systems, LLC.

William Archey, President and CEO, American Electronics Association.

Ronald Bullock, CEO, Bison Gear and Engineering.

12 p.m. Roundtable Discussion and Questions from the Audience.

12:20 p.m. Panelist Commentary.

Cecily Cannan Selby, Biophysicist/Fellow, New York Academy of Sciences.

Jack Collette, Senior Consultant, Delaware Foundation for Science and Mathematics.

Robert Tinker, President, The Concord Consortium.

1 p.m. Roundtable Discussion and Questions from the Audience.

1:20 p.m. Closing Remarks.

Steven Beering, National Science Board.

*Tentative

For More Information Contact:Dr. Michael P. Crosby, Executive Officer and NSB Office Director. (703) 292-7000. http://www.nsf.gov/nsb.

Michael P. Crosby,
Executive Officer and NSB Office Director.

[FR Doc. E5-6788 Filed 12-1-05; 8:45 am]

BILLING CODE 7555-01-P